DEPARTMENT OF ENERGY

Federal Energy Regulatory Commission

[Docket No. AC24-107-000]

Transcontinental Gas Pipe Line Company, LLC; Notice of Filing

Take notice that on July 1, 2024, Transcontinental Gas Pipe Line Company, LLC (Transco) submitted a request to the Chief Accountant of the Federal Energy Regulatory Commission (Commission or FERC) seeking guidance on whether Transco can separately calculate its weighted average cost of gas associated with its system inventory related to System Shippers and system inventory related to Cash-Out under its Operational Balancing Agreements. We note that as part of an uncontested Stipulation and Agreement in Docket Nos. RP20-614-007 and RP20-618-003, Transco was directed to file a request with the Commission's Chief Accountant seeking guidance on this matter.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

In addition to publishing the full text of this document in the Federal Register, the Commission provides all interested persons an opportunity to view and/or print the contents of this document via the internet through the Commission's Home Page (http://ferc.gov) using the “eLibrary” link. Enter the docket number excluding the last three digits in the docket number field to access the document.

The Commission strongly encourages electronic filings of comments, protests and interventions in lieu of paper using the “eFiling” link at http://www.ferc.gov. In lieu of electronic filing, you may submit a paper copy which must reference the Project docket number.

To file via USPS: Debbie-Anne A. Reese, Acting Secretary, Federal Energy Regulatory Commission, 888 First Street NE, Washington, DC 20426

To file via any other courier: Debbie-Anne A. Reese, Acting Secretary, Federal Energy Regulatory Commission, 12225 Wilkins Avenue, Rockville, Maryland 20852

Comment Date: 5:00 p.m. Eastern Time on July 22, 2024.

Dated: July 3, 2024.
Debbie-Anne A. Reese,
Acting Secretary.

[FR Doc. 2024-15190 Filed 7-10-24; 8:45 am]

BILLING CODE 6717-01-P